DEPARTMENT OF TRANSPORTATION

Federal Aviation Administration

14 CFR Part 39

[Docket No. 2000-NM-266-AD; Amendment 39-12651; AD 2002-03-10]

RIN 2120-AA64

Airworthiness Directives; BAE Systems (Operations) Limited Model BAe 146 Series Airplanes and Model Avro 146-RJ Series Airplanes

AGENCY: Federal Aviation Administration, DOT.

ACTION: Final rule.

SUMMARY: This amendment adopts a new airworthiness directive (AD), applicable to certain BAE Systems (Operations) Limited Model BAe 146 and Avro 146-RJ series airplanes, that requires repetitive inspections to detect cracking of the oleo strut of the nose landing gear (NLG), and corrective actions if necessary. This AD also provides for optional terminating action for the repetitive inspections. This action is necessary to detect and correct fatigue cracking of the oleo strut of the NLG, which could result in failure of the NLG. This action is intended to address the identified unsafe condition.

DATES: Effective March 21, 2002.

The incorporation by reference of certain publications listed in the regulations is approved by the Director of the Federal Register as of March 21, 2002.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain BAE Systems (Operations) Limited Model BAe 146 and Avro 146-RJ series airplanes was published in the Federal Register on November 23, 2001 (66 FR 58678). That action proposed to require repetitive inspections to detect cracking of the oleo strut of the nose landing gear, and corrective actions if necessary. That action also proposed to provide for optional terminating action for the repetitive inspections.

Comments

Interested persons have been afforded an opportunity to participate in the making of this amendment. No comments were submitted in response to the proposal or the FAA's determination of the cost to the public.

Conclusion

The FAA has determined that air safety and the public interest require the adoption of the rule as proposed.

Cost Impact

The FAA estimates that 60 Model BAe 146 series airplanes and Model Avro 146-RJ series airplanes of U.S. registry will be affected by this AD, that it will take approximately 1 work hour per airplane to accomplish the required inspection, and that the average labor rate is $60 per work hour. Based on these figures, the cost impact of the requirements of this AD on U.S. operators is estimated to be $3,600, or $60 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-03-10 BAE Systems (Operations) Limited (Formerly British Aerospace Regional Aircraft): Amendment 39-12651. Docket 2000-NM-266-AD.

Applicability: Model BAe 146 series airplanes and Model Avro 146-RJ series airplanes, certificated in any category, as listed in BAE Systems (Operations) Limited Service Bulletin SB.32-158, dated June 2, 2000, except those on which Messier-Dowty Modification AC12248 has been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct fatigue cracking of the oleo strut of the nose landing gear (NLG), which could result in failure of the NLG, accomplish the following:

Inspection

(a) Perform an ultrasonic inspection to detect cracking of the oleo strut of the NLG, in accordance with BAE Systems (Operations) Limited Service Bulletin SB.32-158, dated June 2, 2000, according to the applicable time schedule specified in paragraphs (a)(1), (a)(2), and (a)(3) of this AD. Thereafter, repeat the inspection at least every 2,500 landings, until the actions specified by paragraph (c) of this AD have been performed.

(1) For NLGs identified in paragraph D.(3) of BAE Systems (Operations) Limited Service Bulletin SB.32-158, dated June 2, 2000: Inspect before the NLG accumulates 2,500 landings after accomplishment of the initial inspection specified by Messier-Dowty Service Bulletin 146-32-149, or within 30 days after the effective date of this AD, whichever occurs later.

(2) For NLGs having part number 201138002, serial numbers M-DG-0158 to M-DG-0168 inclusive, as identified in paragraph D.(4) of BAE Systems (Operations) Limited Service Bulletin SB. 32-158, dated June 2, 2000: Inspect before the NLG accumulates 20,000 total landings, or within 500 landings after the effective date of this AD, whichever occurs later.

(3) For NLGs other than those identified in paragraph (a)(1) or (a)(2) of this AD: Inspect before the NLG accumulates 8,000 total landings, or within 500 landings after the effective date of this AD, whichever occurs later.

Corrective Actions

(b) If any crack is found during any inspection required by this AD: Before further flight, replace the oleo strut of the NLG with a new or serviceable strut in accordance with BAE Systems (Operations) Limited Service Bulletin SB.32-158, dated June 2, 2000.

Optional Terminating Action

(c) Modification of the NLG in accordance with BAE Systems (Operations) Limited Service Bulletin SB.32-159-70668ABC, dated June 14, 2000, terminates the repetitive inspections required by this AD.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) The inspections and replacement, as applicable, shall be done in accordance with BAE Systems (Operations) Limited Service Bulletin SB.32-158, dated June 2, 2000. The terminating action, if accomplished, shall be done in accordance with BAE Systems (Operations) Limited Service Bulletin SB.32-159-70668ABC, dated June 14, 2000. (Only the first page of these documents is dated; no other page of these documents contains this information.) This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 3: The subject of this AD is addressed in British airworthiness directive 002-06-2000.

Effective Date

(g) This amendment becomes effective on March 21, 2002.

Issued in Renton, Washington, on February 6, 2002.
Ali Bahrami,
Acting Manager, Transport Airplane Directorate, Aircraft Certification Service.

[FR Doc. 02-3309 Filed 2-13-02; 8:45 am]

BILLING CODE 4910-13-U